DEPARTMENT OF LABOR

Employment and Training Administration

[TA-W-52,014]

Robert Bosch Fuel Systems Corporation, Formerly Diesel Technology Company, a Division of Robert Bosch North America, Including Leased Workers of Adecco Technical and K-Force Professional Staffing, Kentwood, MI; Amended Certification Regarding Eligibility To Apply for Worker Adjustment Assistance

In accordance with Section 223 of the Trade Act of 1974 (19 U.S.C. 2273) the Department of Labor issued a Certification of Eligibility to Apply for Worker Adjustment Assistance on July 11, 2003, applicable to workers of Robert Bosch Fuel Systems Corporation, formerly Diesel Technology Company, a division of Robert Bosch North America, Kentwood, Michigan. The notice was published in the Federal Register on July 22, 2003 (68 FR 43372).

At the request of the State agency, the Department reviewed the certification for workers of the subject firm. Information provided by the company shows that leased workers of Adecco Technical were employed at Robert Bosch Fuel Systems Corporation to produce fuel injector systems at the Kentwood, Michigan location of the subject firm.

Based on these findings, the Department is amending this certification to include leased workers of Adecco Technical working at Robert Bosch Fuel Systems Corporation, Kentwood, Michigan.

The intent of the Department's certification is to include all workers employed at Robert Bosch Fuel Systems Corporation, formerly Diesel Technology Company, a division of Robert Bosch North America who were adversely affected by the shift in production to Brazil and Germany.

The amended notice applicable to TA-W-52,014 is hereby issued as follows:

All workers of Robert Bosch Fuel Systems Corporation, formerly Diesel Technology Company, a division of Robert Bosch North America, Kentwood, Michigan, including leased workers of Adecco Technical and K-Force Professional Staffing, producing fuel injector systems at Robert Bosch Fuel Systems Corporation, formerly Diesel Technology Company, a division of Robert Bosch North America, Kentwood, Michigan, who became totally or partially separated from employment on or after June 10, 2002, through July 11, 2005, are eligible to apply for adjustment assistance under Section 223 of the Trade Act of 1974.

Signed at Washington, DC this 31st day of October 2003.
Linda G. Poole,
Certifying Officer, Division of Trade Adjustment Assistance.

[FR Doc. 03-29277 Filed 11-21-03; 8:45 am]

BILLING CODE 4510-30-P